DEPARTMENT OF HEALTH AND HUMAN SERVICES

Centers for Disease Control and Prevention

[30Day-11-09CL]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed project or to obtain a copy of data collection plans and instruments, call the CDC Reports Clearance Officer on 404-639-5960 or send comments to CDC Assistant Reports Clearance Officer, 1600 Clifton Road, MS D-74, Atlanta, GA 30333 or send an e-mail to omb@cdc.gov. Written comments should be received within 30 days of this notice.

Proposed Project

Calibration of the Short Strengths and Difficulties Questionnaire (SDQ) in the National Health Interview Survey (NHIS)—New—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States. Section 520 [42 U.S.C. 290bb-31] of the Public Health Service Act establishes the Center for Mental Health Services (CMHS), Substance Abuse and Mental Health Services Administration (SAMHSA), and authorizes the CMHS to conduct surveys with respect to mental health. To monitor the prevalence of children and youth with mental health problems, CMHS and the National Institute of Mental Health (NIMH), through a reimbursable agreement with the NCHS have funded questions on children's mental health on the National Health Interview Study (NHIS).

One component of the NHIS is the short Strengths and Difficulties Questionnaire (short SDQ), a module that has obtained data on the mental health of children aged 4-17 years since 2001. As part of its mission, CMHS has undertaken the task of improving its methods for providing national estimates related to child mental health, specifically by conducting studies that determine validity and appropriate cut-points for measuring serious emotional disturbance in children. To ensure that the short SDQ is a valid measure of child mental health, the proposed study calibrates the short SDQ on the NHIS to a standard psychiatric measure. Highly trained clinical interviewers will administer, via telephone, the Child and Adolescent Psychiatric Assessment (CAPA) or the Pre-School Age Psychiatric Assessment (PAPA) to the parents of a sample of children aged 4-17 years identified in the NHIS as having mental health problems. Children aged 12-17 years will also be interviewed using the Child and Adolescent Psychiatric Assessment (CAPA). Clinical interviewers will also administer these assessments to a suitable control group of parents and children. Approximately 800 adults and 600 children will take part in the study. A 24-month clearance is being sought to conduct this study.

Data collected in the follow-up interviews will then be used to calibrate the short SDQ as it is used in the NHIS. Data will not be used to produce national estimates. There is no cost to respondents other than their time. The total estimated annualized burden hours are 633.

Estimated Annualized Burden Hours
Type of respondent | Type of form | Number of respondents | Number of responses per respondent | Average burden per response in hours
Parents of children aged 4-8 years | Pre-school Age Psychiatric Assessment (PAPA) | 63 | 1 | 1
Parents of children aged 9-17 years | Child and Adolescent Psychiatric Assessment: Parent Version (CAPA) | 338 | 1 | 1
Children, aged 12-17 | Child and Adolescent Psychiatric Assessment: Child Version (CAPA) | 300 | 1 | 45/60
Parents | Short Strengths and Difficulties Questionnaire (SDQ) | 401 | 1 | 1/60

Dated: November 23, 2010.
Catina Conner,
Acting Reports Clearance Officer, Centers for Disease Control and Prevention.

[FR Doc. 2010-30124 Filed 11-29-10; 8:45 am]

BILLING CODE 4163-18-P